DEPARTMENT OF COMMERCE

National Oceanic and Atmospheric Administration

50 CFR Part 648

[Docket No. 190205076-9370-02]

RIN 0648-BI71

Magnuson-Stevens Act Provisions; Fisheries of the Northeastern United States; Northeast Multispecies Fishery; 2019 and 2020 Sector Operations Plans and 2019 Allocation of Northeast Multispecies Annual Catch Entitlements

AGENCY: National Marine Fisheries Service (NMFS), National Oceanic and Atmospheric Administration (NOAA), Commerce.

ACTION: Final rule.

SUMMARY: This rule approves Northeast multispecies sector operations plans and grants regulatory exemptions for fishing years 2019 and 2020, approves the formation of a new sector, and allocates annual catch entitlements to approved sectors for fishing year 2019. Approval of sector operations plans and contracts and allocation of annual catch entitlements is necessary for sectors to operate. This action is intended to allow limited access permit holders to form sectors, as authorized under the Northeast Multispecies Fishery Management Plan, and to exempt them from certain effort control regulations to improve the efficiency and economics of sector vessels.

DATES: This rule is effective May 1, 2019. Sector operations plans and regulatory exemptions are effective through April 30, 2021. Northeast multispecies annual catch entitlements for sectors are effective through April 30, 2020. The default catch limit for Eastern Georges Bank cod is effective through July 31, 2019, or until the final rule for Framework 58 is implemented if prior to July 31, 2019.

ADDRESSES: Copies of each sector's operations plan and contract, as well as the programmatic environmental assessment for sectors operations in fishing years 2015 to 2020, are available from the NMFS Greater Atlantic Regional Fisheries Office (GARFO): Michael Pentony, Regional Administrator, National Marine Fisheries Service, 55 Great Republic Drive, Gloucester, MA 01930. These documents are also accessible via the GARFO website: https://www.greateratlantic.fisheries.noaa.gov/sustainable/species/multispecies/.

FOR FURTHER INFORMATION CONTACT: Claire Fitz-Gerald, Fishery Management Specialist, (978) 281-9255.

SUPPLEMENTARY INFORMATION:

Background

The Northeast Multispecies Fishery Management Plan (FMP) defines a sector as “[a] group of persons (three or more persons, none of whom have an ownership interest in the other two persons in the sector) holding limited access vessel permits who have voluntarily entered into a contract and agree to certain fishing restrictions for a specified period of time, and which has been granted a TAC(s) [sic] in order to achieve objectives consistent with applicable FMP goals and objectives.” Sectors are self-selecting, meaning each sector can choose its members.

The Northeast multispecies sector management system allocates a portion of the Northeast multispecies stocks to each sector. These annual sector allocations are known as annual catch entitlements (ACE) and are based on the collective fishing history of a sector's members. Sectors receive allocations of large-mesh Northeast multispecies stocks with the exception of Atlantic halibut, windowpane flounder, Atlantic wolffish, and ocean pout, which are non-allocated species managed under separate effort controls. ACEs are portions of a stock's annual catch limit (ACL) available to commercial Northeast multispecies vessels. A sector determines how to harvest its ACE.

Because sectors elect to receive an allocation under a quota-based system, the FMP grants sector vessels several “universal” exemptions from the FMP's effort controls. These universal exemptions apply to: Trip limits on allocated stocks; Northeast multispecies days-at-sea (DAS) restrictions; the requirement to use a 6.5-inch (16.5-cm) mesh codend when fishing with selective gear on Georges Bank (GB); portions of the Gulf of Maine (GOM) Cod Protection Closures; and the at-sea monitoring (ASM) coverage requirement for sector vessels fishing exclusively in the Southern New England (SNE) and Inshore GB Broad Stock Areas (BSA) with extra-large mesh gillnets (10-inch [25.4-cm] or greater). The FMP prohibits sectors from requesting exemptions from permitting restrictions, gear restrictions designed to minimize habitat impacts, and most reporting requirements.

In addition to the approved sectors, there are several state-operated permit banks, which receive allocations based on the history of the permits held by the states. The final rule implementing Amendment 17 to the FMP allowed a state-operated permit bank to receive an allocation without needing to comply with the administrative and procedural requirements for sectors (77 FR 16942; March 23, 2012). Instead, permit banks are required to submit a list of participating permits to us, as specified in the permit bank's Memorandum of Agreement, to determine the ACE allocated to the permit bank. These allocations may be leased to fishermen enrolled in sectors. Although state-operated permit banks are no longer approved through the sector approval process, they are included in this discussion of allocations because they contribute to the total allocation under the sector system.

We received operations plans and preliminary contracts for fishing years 2019 and 2020 from 20 sectors. In the proposed rule, we proposed to approve 20 sectors, 19 of which were previously approved to operate in the groundfish fishery and 1 newly proposed sector. After the proposed rule published, four sectors (Northeast Fishery Sector 1, Northeast Fishery Sector 3, Northeast Coastal Communities Sector, and GB Cod Hook Gear Sector) withdrew their operations plans from consideration. Consequently, this final rule approves fishing year 2019 and 2020 operations plans and contracts for 16 sectors, including 1 new sector. It also allocates ACE to these 16 sectors based on their preliminary fishing year 2019 sector rosters and the fishing year 2019 specifications in Framework Adjustment 57 to the Northeast Multispecies FMP. Copies of the operations plans and contracts, and the environmental assessment (EA), are available (see ADDRESSES).

Default Catch Limits for Fishing Year 2019

Last year, Framework 57 set fishing year 2019 catch limits for all groundfish stocks (83 FR 18985; May 1, 2018). The 2019 catch limits for most stocks remain the same as, or similar to, 2018 limits. Framework 57 did not, however, specify a 2019 catch limit for Eastern GB cod. Eastern GB cod is a management unit of the GB cod stock that is jointly managed with Canada, and the shared quota is set annually.

This year, in Framework 58, the Council adopted revised 2019 catch limits for GB cod, GB haddock, GB yellowtail, witch flounder, GB winter flounder, GOM winter flounder, and Atlantic halibut. Due to the 35-day partial Federal government shutdown resulting from a lapse in appropriations, there will be a delay in the rulemaking process for Framework 58, and it will not be possible to implement these revised catch limits by May 1, 2019.

As a result, the sector and common pool allocations in this rule are based on the 2019 catch limits set in Framework 57 and preliminary 2019 fishing year sector rosters (Table 1). If Framework 58 is approved, the 2019 catch limits for GB cod, GB haddock, GB yellowtail, witch flounder, GB winter flounder, GOM winter flounder, and Atlantic halibut will change. This rule also sets a default catch limit for Eastern GB cod. The groundfish regulations require default catch limits for any stock for which final specifications are not in place by the beginning of the fishing year on May 1. The FMP's default specifications provision sets catch at 35 percent of the previous year's (2018) catch limits beginning on May 1 through July 31, unless replaced by specifications set by Framework 58.

In Framework 58, the Council recommended a total ACL of 103 mt for GB yellowtail flounder in fishing year 2019. This is a 64-percent decrease from the fishing year 2019 ACL previously set in Framework 57, and a 50-percent decrease from the fishing year 2018 ACL. The Council also revised the fishing year 2019 ACL for GB cod to 1,741 mt. This a 14-percent increase from the fishing year 2018 ACL, but a 20-percent decrease from the fishing year 2019 ACL previously set in Framework 57. The adjustments are based on the recommendation of the Transboundary Management Guidance Committee, which is the joint U.S./Canada management body that meets annually to recommend shared quotas for the three transboundary stocks. These recommendations will be further discussed in the Framework 58 rule. We are highlighting these changes in this rule because the GB yellowtail flounder and GB cod ACE allocated to sectors in this rule are based on the higher 2019 catch limits previously approved in Framework 57. If the Council's recommended catch limits become final with no changes, ACE for these stocks will be reduced when Framework 58 is implemented.

Framework 58 would also adjust the GOM cod catch limits for commercial groundfish vessels. The sector sub-ACL for GOM cod would be reduced by 28.8 mt for fishing year 2019. This adjustment is required because the total ACL was exceeded in fishing year 2017. Therefore, sectors' ACE would be reduced when Framework 58 is implemented compared to their May 1 allocations.

Table 1—Northeast Multispecies Catch Limits for 2019
Stock | Total ACL | Groundfish sub-ACL | Preliminary sector sub-ACL | Preliminary common pool sub-ACL | Recreational sub-ACL | Midwater trawl fishery | Scallop fishery | Small-mesh fisheries | State waters sub- component | Other sub- component
GB Cod | 1,519 | 1,360 | 1,316 | 44 |  |  |  |  | 16 | 143
GOM Cod | 666 | 610 | 379 | 11 | 220 |  |  |  | 47 | 9
GB Haddock | 46,312 | 44,659 | 43,996 | 663 |  | 680 |  |  | 487 | 487
GOM Haddock | 11,803 | 11,506 | 8,218 | 94 | 3,194 | 116 |  |  | 91 | 91
GB Yellowtail Flounder | 291 | 239 | 232 | 7 |  |  | 47 | 6 | 0 | 0
SNE/MA Yellowtail Flounder | 66 | 32 | 26 | 6 |  |  | 15 |  | 2 | 17
CC/GOM Yellowtail Flounder | 490 | 398 | 378 | 20 |  |  |  |  | 51 | 41
American Plaice | 1,532 | 1,467 | 1,437 | 31 |  |  |  |  | 32 | 32
Witch Flounder | 948 | 849 | 831 | 18 |  |  |  |  | 40 | 60
GB Winter Flounder | 787 | 731 | 701 | 30 |  |  |  |  | 0 | 57
GOM Winter Flounder | 428 | 357 | 339 | 17 |  |  |  |  | 67 | 4
SNE/MA Winter Flounder | 700 | 518 | 447 | 71 |  |  |  |  | 73 | 109
Redfish | 11,208 | 10,972 | 10,918 | 53 |  |  |  |  | 118 | 118
White Hake | 2,794 | 2,735 | 2,715 | 20 |  |  |  |  | 29 | 29
Pollock | 38,204 | 37,400 | 37,159 | 242 |  |  |  |  | 402 | 402
N. Windowpane Flounder | 86 | 63 |  | 63 |  |  | 18 |  | 2 | 3
S. Windowpane Flounder | 457 | 53 |  | 53 |  |  | 158 |  | 28 | 218
Ocean Pout | 120 | 94 |  | 94 |  |  |  |  | 3 | 23
Atlantic Halibut | 100 | 77 |  | 77 |  |  |  |  | 21 | 2
Atlantic Wolffish | 84 | 82 |  | 82 |  |  |  |  | 1 | 1
* Catch limit will be replaced when the final rule for Framework 58 becomes effective.

Formation of a New Sector

This action approves the formation of a new sector, Mooncusser Sector, for operation beginning in the 2019 fishing year. Allocations for the Mooncusser Sector are included in Tables 3 and 4 based on sector enrollment information submitted by the March 8 roster deadline. All permits enrolled in this sector, and the vessels associated with those permits, have until April 30, 2019, to withdraw from the sector and fish in the common pool for the 2019 fishing year.

Sector Allocations

This rule allocates ACE to sectors based on preliminary sector rosters submitted by the March 8 roster deadline and the fishing year 2019 catch limits established in Framework 57. Any permits that change ownership after December 1, 2018, retain the ability to join a sector through April 30, 2019. All permits enrolled in a sector, and the vessels associated with those permits, have until April 30, 2019, to withdraw from a sector and fish in the common pool for fishing year 2019, although sectors may set a more restrictive deadline for their members. For fishing year 2020, we will set similar roster deadlines. Permit holders can make the decision to enroll in a sector on an annual basis, independent of the sector operations plans biannual cycle.

We calculate the sector's allocation for each stock by summing its members' potential sector contributions (PSC) for a stock and then multiplying that total percentage by the available commercial sub-ACL for that stock. Table 2 shows the preliminary cumulative fishing year 2019 PSC by stock for each sector for fishing year 2019. Tables 3 and 4 show the initial allocations that each sector will be allocated, in pounds and metric tons, respectively, for fishing year 2019 based on their preliminary fishing year 2019 rosters. At the start of the 2019 fishing year we provide final allocations, to the nearest pound, to each sector based on their final May 1 rosters. We use these final allocations, along with any adjustments, such as for ACE transfers or increases for carryover from fishing year 2018, to monitor sector catch. We have included the common pool sub-ACLs in tables 2 through 4 for comparison.

We do not assign a separate PSC for Eastern GB cod or Eastern GB haddock; instead, we assign each permit a PSC for the GB cod stock and GB haddock stock. Each sector's GB cod and GB haddock allocations are then divided into an Eastern ACE and a Western ACE, based on each sector's percentage of the GB cod and GB haddock ACLs. For example, if a sector is allocated 4 percent of the GB cod ACL and 6 percent of the GB haddock ACL, the sector is allocated 4 percent of the commercial Eastern U.S./Canada Area GB cod total allowable catch (TAC) and 6 percent of the commercial Eastern U.S./Canada Area GB haddock TAC as its Eastern GB cod and haddock ACEs. These amounts are then subtracted from the sector's overall GB cod and haddock allocations to determine its Western GB cod and haddock ACEs. A sector may only harvest its Eastern GB cod and haddock ACEs in the Eastern U.S./Canada Area, but may “convert,” or transfer, its Eastern GB cod or haddock allocation into Western GB allocation and fish that converted ACE outside the Eastern GB area.

At the start of fishing year 2019, we withhold 20 percent of each sector's fishing year 2019 allocation until we finalize fishing year 2018 catch information. We expect to finalize 2018 catch information in summer 2019. We will allow sectors to transfer fishing year 2018 ACE for 2 weeks upon our completion of year-end catch accounting to reduce or eliminate any fishing year 2018 overages. If necessary, we will reduce any sector's fishing year 2019 allocation to account for a remaining overage in fishing year 2018. We will follow the same process for fishing year 2020. For both fishing years 2019 and 2020, we will notify the Council and sector managers of the ACE transfer deadline in writing and announce our final ACE determination on our website at: http://www.greateratlantic.fisheries.noaa.gov/.

BILLING CODE 3510-22-P

BILLING CODE 3510-22-C

Sector Operations Plans and Contracts

We previously proposed to approve 20 sector operations plans and contracts for fishing years 2019 and 2020. After the proposed rule published, four sectors withdrew their operations plans from consideration. Consequently, this final rule approves fishing year 2019 and 2020 operations plans and contracts for 16 sectors. In order to approve a sector's operations plan for fishing years 2019 and 2020, we consider whether each sector's plan is consistent with regulatory requirements and FMP objectives, and whether the sector has been compliant with reporting requirements from previous years, including the year-end reporting requirements found at § 648.87(b)(1)(vi)(C). Approved operations plans, provided on our website as a single document for each sector, not only contain the rules under which each sector would fish, but also provide the legal contract that binds each member to the sector for the length of the sector's operations plan. Each sector's operations plan, and each sector's members, must comply with the regulations governing sectors, found at § 648.87. In addition, each sector must conduct fishing activities as detailed in its approved operations plan.

Participating vessels are required to comply with all pertinent Federal fishing regulations, except as specifically exempted in the letter of authorization (LOA) issued by the Regional Administrator, which details any approved sector exemptions from the regulations. If, during a fishing year, or between fishing years 2019 and 2020, a sector requests an exemption that we have already granted, or proposes a change to administrative provisions, we may amend the sector operations plans. Should any such amendments require modifications to LOAs, we would include these changes in updated LOAs and provide them to the appropriate sectors.

As in previous years, we retain the right to revoke exemptions in-season if: We determine that the exemption jeopardizes management measures, objectives, or rebuilding efforts; the exemption results in unforeseen negative impacts on other managed fish stocks, habitat, or protected resources; the exemption causes enforcement concerns; catch from trips using the exemption cannot adequately be monitored; or a sector is not meeting certain administrative or operational requirements. If it becomes necessary to revoke an exemption, we will do so through a process consistent with the Administrative Procedure Act.

Each sector is required to ensure that it does not exceed its ACE during the fishing year. Sector vessels are required to retain all legal-sized allocated Northeast multispecies stocks, unless a sector is granted an exemption allowing its member vessels to discard legal-sized unmarketable fish at sea. Catch (defined as landings and discards) of all allocated Northeast multispecies stocks by a sector's vessels count against the sector's allocation. Groundfish catch from a sector trip targeting non-groundfish species would be deducted from the sector's ACE because these are groundfish trips using gear capable of catching groundfish. Catch from a non-sector trip in an exempted fishery does not count against a sector's allocation and is assigned to a separate ACL sub-component to account for any groundfish bycatch that occurs in non-groundfish fisheries.

Each sector contract details the method for initial ACE sub-allocations to sector members. For fishing years 2019 and 2020, each sector has proposed that each active sector member could harvest an amount of fish equal to the amount each individual member's permit contributed to the sector, as modified by the sector for reserves or other management measures. Each sector operations plan submitted for fishing years 2019 and 2020 states that the sector would withhold an initial reserve from the sector's ACE sub-allocation to each individual member to prevent the sector from exceeding its ACE. A sector and sector members can be held jointly and severally liable for ACE overages, discarding legal-sized fish, and/or misreporting catch (landings or discards). Each sector contract provides procedures for enforcement of the sector's rules, explains sector monitoring and reporting requirements, provides sector managers with the authority to issue stop fishing orders to sector members who violate provisions of the operations plan and contract, and presents a schedule of penalties that managers may levy for sector plan violations.

Sectors are required to monitor their allocations and catch. To help ensure that a sector does not exceed its ACE, each sector operations plan explains sector monitoring and reporting requirements, including a requirement to submit weekly catch reports to us. If a sector reaches an ACE threshold (specified in the operations plan), the sector must provide us with sector allocation usage reports on a daily basis. Once a sector's allocation for a particular stock is caught, that sector is required to cease all sector fishing operations in that stock area until it acquires more ACE, likely by an ACE transfer between sectors. Within 60 days of when we complete year-end catch accounting, each sector is required to submit an annual report detailing the sector's catch (landings and discards), enforcement actions, and pertinent information necessary to evaluate the biological, economic, and social impacts of each sector.

At-Sea Monitoring

Sectors are responsible for the at-sea portion of costs associated with the sector ASM program, even in years when Federal reimbursement funds are available, and for designing, implementing, and funding an ASM program that will provide the level of ASM coverage specified annually. We are required to specify a level of ASM coverage using a process described in Framework 55 (81 FR 26412; May 2, 2016) that provides a reliable estimate of overall catch by sectors needed for monitoring ACEs and ACLs while minimizing the cost burden to sectors and NMFS to the extent practicable. Using this method, NMFS has determined that the total appropriate target coverage level for fishing year 2019 is 31 percent of eligible sector trips, up from 15 percent required for fishing year 2018. We will use discards derived from these observed and monitored trips to calculate and apply discards to unobserved sector trips. We have published a more detailed summary of the supporting information, explanation, and justification for this decision at: http://www.greateratlantic.fisheries.noaa.gov/ro/fso/reports/Sectors/ASM/FY2019_Multispecies_Sector_ASM_Requirements_Summary.pdf.

In fishing years 2010 and 2011, we funded an ASM program with a target ASM coverage level of 30 percent of all trips. In addition, we provided 8-percent observer coverage through the Northeast Fishery Observer Program (NEFOP), which helps to support the Standardized Bycatch Reporting Methodology (SBRM) and stock assessments. This resulted in an overall target coverage level of 38 percent for fishing years 2010 and 2011, from the combined ASM and NEFOP. Beginning in fishing year 2012, we have conducted an annual analysis to determine the total target coverage level. Table 5 depicts the annual target coverage levels. Industry has been required to pay for their ASM coverage costs since 2012, while we continued to fund NEFOP coverage. However, we were able to fund the industry's portion of ASM costs in fishing years 2012 through most of 2015. Industry paid for their portion of the ASM program beginning in March 2016. In June 2016, after determining that the SBRM monitoring program could be fully funded with additional funding remaining, we announced that we had funds available to offset some of industry's costs of the groundfish ASM program in 2016. We reimbursed sectors for 85 percent of their ASM costs for 10 months of the 2016 fishing year, distributed through a grant by the Atlantic States Marine Fisheries Commission. In fishing year 2017, using leftover funds from the 2016 grant, we reimbursed sectors for approximately 85 percent of industry costs in fishing year 2017.

Table 5—Historic Target Coverage Level for Monitoring
Fishing year | Total target coverage level (percent) | ASM target coverage level (percent) | NEFOP target coverage level (percent)
2010 | 38 | 30 | 8
2011 | 38 | 30 | 8
2012 | 25 | 17 | 8
2013 | 22 | 14 | 8
2014 | 26 | 18 | 8
2015 | 16 | 12 | 4
2016 | 14 | 10 | 4
2017 | 16 | 8 | 8
2018 | 15 | 10 | 5

In fiscal years 2018 and 2019, Congress appropriated $10.3 million for groundfish at-sea monitoring. With Congressionally appropriated funds, we were able to fully reimburse industry costs in fishing year 2018, and we will continue to reimburse 100 percent of industry's ASM costs for fishing year 2019. As in previous years, sectors will contract directly with ASM service providers and reimbursements will be distributed through a grant administered by the Commission.

Sectors submitted draft operations plans in October 2018, which included industry-funded ASM plans to be used for fishing year 2019. As in previous years, we gave sectors the option to design their own programs in compliance with regulations, or elect to adopt the NMFS-designed ASM program that we have used in previous fishing years. As in past years, several sectors chose to adopt the NMFS-designed program while others proposed programs of their own design. Lease-only sectors will not be active in the fishery and are not required to submit industry-funded ASM plans. Sector-designed ASM programs for fishing years 2019 and 2020 were similar to those approved in past years. We reviewed all sector-proposed ASM programs for consistency with ASM requirements and have approved them.

Sustainable Harvest Sectors 1, 2, and 3, GB Cod Fixed Gear Sector, Maine Coast Community Sector, and Northeast Fishery Sectors 5, 10, 11, and 13 will use the ASM program that was developed by NMFS. We are approving this program for these sectors because it is consistent with goals and objectives of monitoring and regulatory requirements. Sectors that operate only as permit banks, and explicitly prohibit fishing in their operations plans, are not required to include provisions for an ASM program.

We are approving the ASM programs proposed by the remaining five active sectors, NEFS 2, 6, 7, 8, and 12, which state that they will: Contract with a NMFS-approved ASM provider; meet the specified coverage level; and utilize the PTNS for random selection of monitored trips and notification to providers. These ASM programs also include additional protocols for ASM coverage waivers, incident reporting, and safety requirements for their sector managers and members. We have determined that the programs are consistent with the goals and objectives of at-sea monitoring and regulatory requirements.

In fishing year 2018, a number of sectors have realized ASM coverage levels below the target coverage level. Since this issue became known during the fishing year, we have been working with the sectors and approved service providers to increase coverage levels. Sectors have been proactive in their efforts to correct the issue. Sectors with low ASM coverage levels have participated in monthly monitoring calls with the Northeast Fisheries Science Center staff and service providers to develop strategies for increasing coverage; conducted targeted outreach with sector members to improve their understanding of ASM requirements; and submitted monthly reports to us documenting their efforts. Two sectors contracted with an additional service provider in an effort to increase the number of monitors available to them to provide coverage. Service providers are also working to improve coverage levels. The Northeast Fisheries Science Center held an ASM cross-training certification course in October 2018 and a full ASM certification course in December 2018 to help service providers increase their staffing levels and, ultimately, support higher levels of ASM deployment. All four approved providers sent staff to these certification courses. Increased staffing levels are expected to help providers meet ASM contract requirements. We will continue to work with sectors and service providers throughout the remainder of the year to increase coverage levels for 2018, and to ensure they meet the specified coverage target in 2019.

Granted Exemptions for Fishing Years 2019 and 2020

Previously Granted Exemptions Granted for Fishing Years 2019 and 2020 (1-19)

We are granting exemptions from the following requirements for fishing years 2019 and 2020, all of which have been requested and granted in previous years: (1) 120-day block out of the fishery required for Day gillnet vessels; (2) 20-day spawning block out of the fishery required for all vessels; (3) limits on the number of gillnets for Day gillnet vessels outside the GOM; (4) prohibition on a vessel hauling another vessel's gillnet gear; (5) limits on the number of gillnets that may be hauled on GB when fishing under a Northeast multispecies/monkfish DAS; (6) limits on the number of hooks that may be fished; (7) DAS Leasing Program length and horsepower restrictions; (8) prohibition on discarding; (9) gear requirements in the Eastern U.S./Canada Management Area; (10) prohibition on a vessel hauling another vessel's hook gear; (11) the requirement to declare an intent to fish in the Eastern U.S./Canada Special Access Program (SAP) and the Closed Area (CA) II Yellowtail Flounder/Haddock SAP prior to leaving the dock; (12) seasonal restrictions for the Eastern U.S./Canada Haddock SAP; (13) seasonal restrictions for the CA II Yellowtail Flounder/Haddock SAP; (14) sampling exemption; (15) 6.5-inch (16.5-cm) minimum mesh size requirement for trawl nets to allow a 5.5-inch (12.7-cm) codend on directed redfish trips; (16) prohibition on combining small-mesh exempted fishery and sector trips in SNE; (17) extra-large mesh requirement to target dogfish on trips excluded from ASM in SNE and Inshore GB BSA; (18) requirement that Handgear A vessels carry a Vessel Monitoring System (VMS) unit when fishing in a single broad stock area; and (19) limits on the number of gillnets for Day gillnet vessels in the GOM. A detailed description of the previously granted exemptions and supporting rationale can be found in the applicable final rules identified in Table 6 below.

Several exemptions available to sectors in previous fishing years were rendered obsolete when the Omnibus Essential Fish Habitat Amendment 2 went into effect (83 FR 15240; April 9, 2018). The amendment removed the GB Seasonal Closure Area and Nantucket Lightship Closed Area, and changed CA I from a year-round closed area to a seasonal spawning closure. Consequently, sector exemptions pertaining to these closed areas are no longer applicable. These exemptions include: GB Seasonal Closure Area in May (previously a “universal” exemption); daily catch reporting by sector managers for vessels participating in the CA I Hook Gear Haddock SAP; prohibition on fishing inside and outside the CA I Hook Gear Haddock SAP while on the same trip; and the prohibition on groundfish trips in Nantucket Lightship Closed Area. Sectors did not request any of these exemptions for fishing year 2019.

Table 6—Exemptions From Previous Fishing Years That Are Granted in Fishing Years 2019 and 2020
Exemptions | Rulemaking | Date of publication | Citation
1-2, 4-9 | Fishing Year 2011 Sector Operations Final Rule | April 25, 2011 | 76 FR 23076
10-11 | Fishing Year 2012 Sector Operations Final Rule | May 2, 2012 | 77 FR 26129
12-14 | Fishing Year 2013 Sector Operations Interim Final Rule | May 2, 2013 | 78 FR 25591
3, 15-16 | Fishing Years 2015-2016 Sector Operations Final Rule | May 1, 2015 | 80 FR 25143
17 | Framework 55 Final Rule | May 2, 2016 | 81 FR 26412
18 | Amendment 18 Final Rule | April 21, 2017 | 82 FR 18706
19 | Fishing Year 2018 Sector Operations Final Rule | May 1, 2018 | 83 FR 18965
Northeast Multispecies Federal Register documents can be found at http://www.greateratlantic.fisheries.noaa.gov/sustainable/species/multispecies/.

Additional Sector Operations Plan Provisions

Inshore GOM Restrictions

Several sectors have proposed an operations plan provision to limit and more accurately document a vessel's behavior when fishing in an area they define as the inshore portion of the GOM BSA, or the area to the west of 70°15′ W long. As in previous years, we are approving this provision, but note that a sector may elect to remove this provision in the final version of its operations plan, and it is not a requirement under NMFS regulations.

Under this provision, a vessel that is carrying an observer or at-sea monitor would remain free to fish in all areas, including the inshore GOM area, without restriction. If a vessel is not carrying an observer or at-sea monitor and fishes any part of its trip in the GOM west of 70°15′ W long., the vessel would be prohibited from fishing outside of the GOM BSA. Also, if a vessel is not carrying an observer or at-sea monitor and fishes any part of its trip outside the GOM BSA, this provision would prohibit a vessel from fishing west of 70°15′ W long. within the GOM BSA. The approved provision includes a requirement that a vessel declare whether it intends to fish in the inshore GOM area through the trip start hail using its VMS unit prior to departure. We provide sector managers with the ability to monitor this provision through the Sector Information Management Module, a website where we also provide roster, trip, discard, and observer information to sector managers. A sector vessel may use a federally funded NEFOP observer or at-sea monitor on these trips because we believe it will not create bias in coverage or discard estimates, as fishing behavior is not expected to change as a result of this provision.

Prohibition on a Vessel Hauling Another Vessel's Trap Gear To Target Groundfish

Several sectors have requested a provision to allow a vessel to haul another vessel's fish trap gear, similar to the current exemptions that allow a vessel to haul another vessel's gillnet gear or hook gear. These exemptions have generally been referred to as “community” gear exemptions. Regulations at § 648.84(a) require a vessel to mark all bottom-tending fixed gear, which would include fish trap gear used to target groundfish. To facilitate enforcement of this regulation, we are requiring that any community fish trap gear be tagged by each vessel that plans to haul the gear, similar to how this sector operations plan provision was implemented in fishing years 2014 through 2018. This allows one vessel to deploy the trap gear and another vessel to haul the trap gear, provided both vessels tag the gear prior to deployment. This requirement is included in the sector's operations plan to provide the opportunity for the sector to monitor the use of this provision and facilitate the Office of Law Enforcement and the U.S. Coast Guard's enforcement of the marking requirement.

Comments and Responses

We received a total of five comments from: Northeast Sector Service Network (NESSN); Environmental Defense Fund (EDF); two members of the fishing industry; and one comment from a member of the public. Only comments related to the proposed measures are addressed below.

Allocations

Comment 1: Two individuals provided comments pertaining to quota allocations. One commenter argued that industry harvests more fish than allowed and, therefore, all quotas should be reduced by 50 percent. The other commenter asked NMFS to allocate quotas regionally to ensure that overfishing does not occur on genetically distinct segments of the population. This commenter was also concerned about the potential impacts quota allocations may have on the recreational fishery.

Response: This rulemaking does not set fishing year 2019 annual catch limits for the groundfish fishery. This action approves sector operations plans for fishing years 2019 and 2020, and distributes ACE to groundfish sectors based on ACLs developed by the New England Fishery Management Council and implemented in Framework 57 to the FMP. The ACLs are set to prevent overfishing, rebuild overfished stocks, achieve optimum yield, and ensure that management measures are based on the best scientific information available. Some groundfish species are managed as single unit stocks (e.g., witch flounder, white hake), whereas others are managed in distinct sub-groups by region (e.g., GOM cod, SNE/MA yellowtail flounder), based on our understanding of each species' populations dynamics. Quota is allocated at a stock-level. This action does not allocate quota to the commercial and recreational fisheries; fishing year 2019 allocations are developed in a separate rulemaking.

Sector Operations Plans and Exemptions

Comment 2: NESSN supports approval of fishing year 2019 and 2020 sector operations plans for NEFS 2, 4, 6, 7, 8, and 12.

Response: This rule approves fishing year 2019 and 2020 sector operations plans for NEFS 2, 4, 6, 7, 8, and 12, as proposed.

Comment 3: NESSN supports approval of all the regulatory exemptions as proposed.

Response: This rule approves all 19 regulatory exemptions as described in the proposed rule.

Comment 4: NESSN states that NEFS 1 and 3 opted not to operate in fishing year 2019, but that these sectors may seek approval for fishing year 2020.

Response: This final rule approves fishing year 2019 and 2020 sector operations plans submitted by 16 groundfish sectors. As described in the regulations, sectors that opted not to operate in fishing year 2019, but wish to be considered for approval for fishing year 2020 must submit an operations plan and preliminary contract to the Regional Administrator no later than September 1, 2019. We will notify sectors of this as we approach the deadline.

At-Sea Monitoring

Comment 5: We received several comments on the low realized ASM coverage levels in fishing year 2018. NESSN recommended that NMFS take each sector's corrective actions into account when considering whether to approve their operations plans. A member of the fishing industry inquired as to whether NMFS was assured that sectors had done everything possible to meet the target ASM coverage level. EDF recommended that NMFS not approve sector operations plans for fishing years 2019 and 2020 until and unless the plans were revised to include improvements to the monitoring plans, particularly for sectors that had failed to meet the fishing year 2018 ASM coverage level. EDF also requested that NMFS describe the corrective actions taken by sectors and NMFS in fishing year 2018 to increase sectors' ASM coverage levels.

Response: The issue of low ASM coverage levels for some groundfish sectors first became apparent partway through fishing year 2018. We first notified sector managers of the issue at our in-person sector manager meeting on September 5, 2018. We then sent letters to each of the sectors, which we shared with the Council and ASM service providers, on September 25, 2018. Since that time, sectors and ASM service providers have made a concerted effort to improve their ASM coverage levels, and the overall sector ASM coverage has meaningfully increased.

Sectors have participated in monthly monitoring calls with NMFS and ASM service providers to develop strategies for increasing coverage; conducted targeted outreach with sector members to improve their understanding of ASM requirements; and submitted regular reports to NMFS documenting their efforts. Two sectors contracted with an additional service provider in an effort to increase the number of monitors available to them to provide coverage. The Northeast Fisheries Science Center held an ASM cross-training certification course in October 2018 and a full ASM certification course in December 2018 to help service providers increase their staffing levels and, ultimately, support higher levels of ASM deployment. All four approved providers sent staff to these certification courses.

In September 2018, the average sector ASM coverage level was just under 8 percent, well below the 15 percent target level. As of March 20, 2019, the average sector ASM coverage level is approximately 13 percent, and several sectors have ASM coverage levels at or above the target level. For a variety of reasons, some sectors will be unable to achieve the target coverage level for fishing year 2018, and we recognized these contributing factors in our September 2018 correspondence to sectors. For some sectors, the majority of fishing effort occurs in the summer and little, if any, fishing effort takes place during the remainder of the year; other sectors have vessels operating under special circumstances (e.g., exempted fishing permits) that require NMFS to exclude them from observer coverage calculations; and still others had compliance issues related to the call-in and notification requirements associated with the Extra-Large Mesh Gillnet Option approved in Framework 55, which inflated the estimate of groundfish trips that ostensibly required coverage, but would not have if the trip was properly reported.

When considering approval of these sectors for fishing years 2019 and 2020, we took into consideration the trajectory of each sector's ASM coverage level, whether any of these extenuating circumstances applied, and what, if any, efforts were made by the sector to improve its ASM coverage level. Given this, we made the decision to approve these sector operations plans for fishing years 2019 and 2020. However, we expect sectors to continue to address any outstanding issues contributing to low coverage and meet the ASM target coverage level for fishing year 2019. We retain the right to withdraw approval of a sector's operations plan in the future if we determine that it has taken insufficient steps to address these issues for fishing year 2019.

Comment 6: EDF also stated that NMFS should require higher levels of monitoring prior to approving sector operations plans for fishing years 2019 and 2020.

Response: Each year, NOAA Fisheries sets the target ASM coverage level for groundfish sectors for the coming fishing year that is necessary to meet the required precision standard, a coefficient of variation of 30 percent (CV30) or better at the overall stock level, for each groundfish stock. For fishing year 2019, we have determined that sectors will be required to have monitors on 31 percent of groundfish trips, up from the 15 percent required for 2018. The Council is currently working on Amendment 23, which could affect how coverage levels are set and how coverage is distributed in the future.

Changes From the Proposed Rule

In the proposed rule, we considered approving 20 sectors for fishing years 2019 and 2020, however, several sectors withdrew their operations plans from consideration after the proposed rule published. As a result, this final rule approves and allocates ACE to 16 sectors. The allocations published in the proposed rule were based on final fishing year 2018 sectors rosters because we had not yet received preliminary rosters for the 2019 fishing year. The preliminary sector roster deadline for fishing year 2019 was March 8, 2019. The ACE allocated to each sector has been updated in the final rule to reflect preliminary sector enrollment for the 2019 fishing year. There are no other changes from the proposed measures.

Classification

Pursuant to section 304(b)(1)(A) of the Magnuson-Stevens Fishery Conservation and Management Act (Magnuson-Stevens Act), the NMFS Assistant Administrator has determined that this final rule is consistent with the Northeast Multispecies FMP, other provisions of the Magnuson-Stevens Act, and other applicable law.

This final rule has been determined to be not significant for purposes of Executive Order (E.O.) 12866.

This final rule does not contain policies with Federalism or takings implications as those terms are defined in E.O. 13132 and E.O. 12630, respectively.

The NMFS Assistant Administrator finds good cause under 5 U.S.C. 553(d)(3) to waive the 30-day delay in effectiveness so that this final rule may become effective May 1, 2019. If this action is not implemented by the start of the 2019 fishing year on May 1, 2019, sectors would not be approved to operate and, therefore, sector vessels would be unable to fish. Sector vessels would be prohibited from fishing for groundfish until this rule was effective. This would result in significant negative economic impacts.

Sector exemptions provide additional operational flexibility and efficiencies for Northeast multispecies sector vessels. These exemptions provide vessels with flexibility in choosing when to fish, how long to fish, what species to target, and how much catch they may land on any given trip. A delay in implementing this action would forego the flexibility and economic efficiency that sector exemptions are intended to provide. Further, sector vessels could only fish during this delay if they chose to fish in the common pool. Vessels choosing to fish in the common pool to avoid a 30-day delay could not return to a sector for the entire fishing year and would forego the increased flexibility and efficiencies offered by sectors for the fishing year. For all of these reasons outlined above, good cause exists to waive the otherwise applicable requirement to delay implementation of this rule for a period of 30 days.

The Chief Counsel for Regulation of the Department of Commerce certified to the Chief Counsel for Advocacy of the Small Business Administration (SBA) during the proposed rule stage that this action would not have a significant economic impact on a substantial number of small entities. The factual basis for this certification was published in the proposed rule and is not repeated here. No comments were received regarding this certification. As a result, a regulatory flexibility analysis was not required and none was prepared.

List of Subjects in 50 CFR Part 648

Fisheries, Fishing, Recordkeeping and reporting requirements.

Dated: April 22, 2019.
Patricia A. Montanio,
Acting Deputy Assistant Administrator for Regulatory Programs, National Marine Fisheries Service.

For the reasons stated in the preamble, NMFS amends 50 CFR part 648 as follows:

PART 648—FISHERIES OF THE NORTHEASTERN UNITED STATES

1. The authority citation for part 648 continues to read as follows:

Authority: 16 U.S.C. 1801 et seq.

2. In § 648.87, revise paragraph (d) to read as follows:

§ 648.87 Sector allocation.

* * * * *

(d) Approved sector allocation proposals. Eligible NE multispecies vessels, as specified in paragraph (a)(3) of this section, may participate in the sectors identified in paragraphs (d)(1) through (26) of this section, provided the operations plan is approved by the Regional Administrator in accordance with paragraph (c) of this section and each participating vessel and vessel operator and/or vessel owner complies with the requirements of the operations plan, the requirements and conditions specified in the letter of authorization issued pursuant to paragraph (c) of this section, and all other requirements specified in this section. All operational aspects of these sectors shall be specified pursuant to the operations plan and sector contract, as required by this section.

(1) GB Cod Hook Sector.

(2) GB Cod Fixed Gear Sector.

(3) Mooncusser Sector.

(4) Sustainable Harvest Sector.

(5) Sustainable Harvest Sector II.

(6) Sustainable Harvest Sector III.

(7) Port Clyde Community Groundfish Sector.

(8) Northeast Fishery Sector I.

(9) Northeast Fishery Sector II.

(10) Northeast Fishery Sector III.

(11) Northeast Fishery Sector IV.

(12) Northeast Fishery Sector V.

(13) Northeast Fishery Sector VI.

(14) Northeast Fishery Sector VII.

(15) Northeast Fishery Sector VIII.

(16) Northeast Fishery Sector IX.

(17) Northeast Fishery Sector X.

(18) Northeast Fishery Sector XI.

(19) Northeast Fishery Sector XII.

(20) Northeast Fishery Sector XIII.

(21) Tristate Sector.

(22) Northeast Coastal Communities Sector.

(23) State of Maine Permit Banking Sector.

(24) State of Rhode Island Permit Bank Sector.

(25) State of New Hampshire Permit Bank Sector.

(26) State of Massachusetts Permit Bank Sector.

* * * * *

[FR Doc. 2019-08440 Filed 4-25-19; 8:45 am]

BILLING CODE 3510-22-P